DEPARTMENT OF LABOR

Employment and Training Administration

[TA-W-82,671]

Johnstown Specialty Castings Inc., a Subsidiary of WHEMCO, Including On-Site Leased Workers From Berkebile Excavating Company, Inc., Johnstown, Pennsylvania; Amended Certification Regarding Eligibility To Apply for Worker Adjustment Assistance

In accordance with Section 223 of the Trade Act of 1974, as amended (“Act”), 19 U.S.C. 2273, the Department of Labor issued a Certification of Eligibility To Apply for Worker Adjustment Assistance on June 25, 2013, applicable to workers of Johnstown Specialty Castings, Inc., a subsidiary of WHEMCO, Johnstown, Pennsylvania. The Department's notice of determination was published in the Federal Register on July 12, 2013 (Volume 78 FR page 41956).

At the request of three workers, the Department reviewed the certification for workers of the subject firm. The workers were engaged in production of rolling mill rolls.

New information from the company revealed that workers leased from Berkebile Excavating Company, Inc. were employed on-site at the Johnstown, Pennsylvania location of Johnstown Specialty Castings, Inc., a subsidiary of WHEMCO. The Department has determined that these workers were sufficiently under the control of the subject firm to be considered leased workers.

The intent of the Department's certification is to include all workers of the firm who were adversely affected by increased imports of articles like or directly competitive with rolling mill rolls. Based on these findings, the Department is amending this certification to include workers leased from Berkebile Excavating Company, Inc. working on-site at the Johnstown, Pennsylvania location of Johnstown Specialty Castings, Inc.

The amended notice applicable to TA-W-82,671 is hereby issued as follows:

All workers of Berkebile Excavating Company, Inc., reporting to Johnstown Specialty Castings, Inc., a subsidiary of WHEMCO, Johnstown, Pennsylvania, who became totally or partially separated from employment on or after April 17, 2012, through June 25, 2015, and all workers in the group threatened with total or partial separation from employment on the date of certification through two years from the date of certification, are eligible to apply for adjustment assistance under Chapter 2 of Title II of the Trade Act of 1974, as amended.

Signed in Washington, DC, this 27th day of November, 2013.
Michael W. Jaffe,
Certifying Officer, Office of Trade Adjustment Assistance.

[FR Doc. 2013-29359 Filed 12-9-13; 8:45 am]

BILLING CODE 4510-FN-P